DEPARTMENT OF THE INTERIOR

National Park Service

[NPS-PWR-TUSK-18052; PX.XLKTUSK15.00.1]

Request for Nominations for the Tule Springs Fossil Beds National Monument Advisory Council

AGENCY: National Park Service, Interior.

ACTION: Request for Nominations.

SUMMARY: The National Park Service, U.S. Department of the Interior, is establishing and seeking nominations for members of the Tule Springs Fossil Beds National Monument Advisory Council (Council). The purpose of the Council is to provide the Secretary of the Interior (Secretary) and National Park Service (NPS) guidance for the management of the Monument.

DATES: Written nominations must be postmarked by July 2, 2015.

ADDRESSES: Send nominations to Lake Mead National Recreation Area, ATTN: Tule Springs Advisory Council, 601 Nevada Way, Boulder City, Nevada 89005, telephone (702) 293-8691, or email tusk_information@nps.gov.

FOR FURTHER INFORMATION CONTACT: Christie Vanover, Public Affairs Officer, Tule Springs Fossil Beds National Monument, 601 Nevada Way, Boulder City, Nevada 89005, telephone (702) 293-8691, or email tusk_information@nps.gov.

SUPPLEMENTARY INFORMATION: The NPS is establishing the Tule Springs Fossil Beds National Monument Advisory Council in accordance with section 3092 (a)(6) of Public Law 113-291, and in accordance with the provisions of the Federal Advisory Committee Act (FACA) (5 U.S.C. Appendix 1-16).

The Council provides the Secretary and the NPS with guidance for the management of the Monument, including advice on the preparation and implementation of the management plan.

The Council is composed of 10 members appointed by the Secretary, as follows: (a) One member appointed among individuals recommended by the County Commission; (b) one member appointed among individuals recommended by the city council of Las Vegas, Nevada; (c) one member appointed among individuals recommended by the city council of North Las Vegas, Nevada; (d) one member appointed among individuals recommended by the tribal council of the Las Vegas Paiute Tribe; (e) one member of the conservation community in southern Nevada; (f) one member appointed among individuals recommended by Nellis Air Force Base; (g) one member appointed among individuals recommended by the State of Nevada; (h) one member who resides in Clark County and has a background that reflects the purposes for which the Monument was established; and (i) two members who reside in Clark County or adjacent counties, both of whom shall have experience in the field of paleontology, obtained through higher education, experience, or both. Members will be appointed by the Secretary for a term of three years.

Members of the Council will receive no compensation for serving on the Council. However, while away from their homes or regular places of business in the performance of services for the Commission as approved by the Designated Federal Officer, members may be allowed travel expenses, including per diem in lieu of subsistence, in the same manner as persons employed intermittently in Government service are allowed such expenses under section 5703 of Title 5 of the United States Code.

Individuals who are Federally registered lobbyists are ineligible to serve on all FACA and non-FACA boards, committees, or councils in an individual capacity. The term “individual capacity” refers to individuals who are appointed to exercise their own individual best judgment on behalf of the government, such as when they are designated special government employees, rather than being appointed to represent a particular interest.

The Council will hold its first meeting once all members are appointed, at which time a chairperson will be elected from among the members. The Chairperson shall not, however, be a member of Federal or a State agency. Meetings will take place at such times as designated by the Designated Federal Officer. Members are expected to make every effort to attend all meetings. Members may not appoint deputies or alternates.

Seeking Nominations for Membership

We are seeking nominations for council members in the following categories: (a) One member who represents the conservation community in southern Nevada; (b) one member who resides in Clark County and has a background that reflects the purposes for which the Monument was established; and (c) two members who reside in Clark County or adjacent counties, both of whom shall have experience in the field of paleontology, obtained through higher education, experience, or both.

Nominations should include a resume providing an adequate description of the nominee's qualifications, including information that would enable the Department of the Interior to make an informed decision regarding meeting the membership requirements of the Council and permit the Department to contact a potential member.

Dated: May 26, 2015.
Alma Ripps,
Chief, Office of Policy.

[FR Doc. 2015-13117 Filed 6-1-15; 8:45 am]

BILLING CODE 4310-EE-P